SUSQUEHANNA RIVER BASIN COMMISSION

Projects Rescinded for Consumptive Uses of Water

AGENCY: Susquehanna River Basin Commission.

ACTION: Notice.

SUMMARY: This notice lists the approved by rule projects rescinded by the Susquehanna River Basin Commission during the period set forth in DATES.

DATES: June 1 through August 31, 2013.

ADDRESSES: Susquehanna River Basin Commission, 4423 North Front Street, Harrisburg, PA 17110-1788.

FOR FURTHER INFORMATION CONTACT: Richard A. Cairo, General Counsel, telephone: (717) 238-0423, ext. 1306; fax: (717) 238-2436; email: rcairo@srbc.net. Regular mail inquiries may be sent to the above address.

SUPPLEMENTARY INFORMATION: This notice lists the projects, described below, being rescinded for the consumptive use of water pursuant to the Commission's approval by rule process set forth in 18 CFR 806.22(e) and § 806.22(f) for the time period specified above:

Rescinded ABR Issued June 1-August 31, 2013

1. Chesapeake Appalachia, LLC, Pad ID: Joyce Road, ABR-201101026, Rome Township, Bradford County, PA; Rescind Date: June 24, 2013.

2. Chesapeake Appalachia, LLC, Pad ID: Manella Acres, ABR-201109013, Albany Township, Bradford County, PA; Rescind Date: June 24, 2013.

3. Chesapeake Appalachia, LLC, Pad ID: Schulze, ABR-201203024, Rush Township, Susquehanna County, PA; Rescind Date: June 24, 2013.

4. Chesapeake Appalachia, LLC, Pad ID: Serengeti, ABR-20100643, Troy Township, Bradford County, PA; Rescind Date: June 24, 2013.

5. Chesapeake Appalachia, LLC, Pad ID: Lorraine, ABR-201208002, Tuscarora Township, Bradford County, PA; Rescind Date: June 24, 2013.

6. Chesapeake Appalachia, LLC, Pad ID: Ramsher, ABR-201210007, Terry Township, Bradford County, PA; Rescind Date: June 24, 2013.

7. Chesapeake Appalachia, LLC, Pad ID: Rinker, ABR-201102012, Elkland Township, Sullivan County, PA; Rescind Date: June 24, 2013.

8. Chief Oil & Gas, LLC, Pad ID: R & L Wilson Drilling Pad #1, ABR-201103048, Eaton Township, Wyoming County, PA; Rescind Date: June 24, 2013.

9. Chief Oil & Gas, LLC, Pad ID: R & A Harris Drilling Pad #1, ABR-201103016, Tunkhannock Township, Wyoming County, PA; Rescind Date: June 24, 2013.

10. Chief Oil & Gas, LLC, Pad ID: Smith Drilling Pad #1, ABR-201010067, Franklin Township, Bradford County, PA; Rescind Date: June 24, 2013.

11. Chief Oil & Gas, LLC, Pad ID: Beinlich Drilling Pad #1, ABR-201007058, Elkland Township, Sullivan County, PA; Rescind Date: June 24, 2013.

12. Chief Oil & Gas, LLC, Pad ID: Kobbe Drilling Pad #1, ABR-201007032, Elkland Township, Sullivan County, PA; Rescind Date: June 24, 2013.

13. Chief Oil & Gas, LLC, Pad ID: American Asphalt Drilling Pad #1, ABR-201102030, Eaton Township, Wyoming County, PA; Rescind Date: June 24, 2013.

14. Chief Oil & Gas, LLC, Pad ID: R & D Group Drilling Pad #1, ABR-201100548, Mehoopany Township, Wyoming County, PA; Rescind Date: June 24, 2013.

15. Chief Oil & Gas, LLC, Pad ID: Longmore Drilling Pad #1, ABR-201006109, Monroe Township, Wyoming County, PA; Rescind Date: June 24, 2013.

16. SM Energy, Inc., Pad ID: Young Pad #4, ABR-201105025, Portage Township, Potter County, PA; Rescind Date: June 28, 2013.

17. Emkey Resources, LLC, Pad ID: Mulligan #1, ABR-20100625, Lebanon Township, Madison County, NY; Rescind Date: August 29, 2013.

18. Range Resources-Appalachia, LLC, Pad ID: Ogontz Fishing Club 41H—44H, ABR-201201020, Cummings Township, Lycoming County, PA; Rescind Date: August 30, 2013.

Authority: Pub. L. 91-575, 84 Stat. 1509 et seq., 18 CFR Parts 806, 807, and 808.

Dated: January 29, 2014.
Stephanie L. Richardson,
Secretary to the Commission.

[FR Doc. 2014-02634 Filed 2-6-14; 8:45 am]

BILLING CODE 7040-01-P